DEPARTMENT OF TRANSPORTATION

Federal Aviation Administration

14 CFR Part 71

[Docket No. FAA-2006-23590; Airspace Docket No. 06-ASO-2]

Establishment of Class D Airspace; Bay St. Louis, MS

AGENCY: Federal Aviation Administration (FAA), DOT.

ACTION: Final rule.

SUMMARY: This action establishes Class D airspace at Bay St. Louis, MS. A Federal contract tower with a weather reporting system is being constructed at the Stennis International Airport. Therefore, the airport will meet the criteria for establishment of Class D airspace. Class D surface area airspace is required when the control tower is open to contain existing Standard Instrument Approach Procedures (SIAPs) and other Instrument Flight Rules (IFR) operations at the airport. This action will establish Class D airspace extending upward from the surface, to and including 2,500 feet MSL, within a 4.2-mile radius of the airport.

DATES: Effective Dates: 0901 UTC, June 8, 2006.

FOR FURTHER INFORMATION CONTACT: Mark D. Ward, Manager, Airspace and Procedures Branch, Air Traffic Division, Federal Aviation Administration, P.O. Box 20636, Atlanta, Georgia 30320; telephone (404) 305-5627.

SUPPLEMENTARY INFORMATION:

History

On February 28, 2006, the FAA proposed to amend part 71 of the Federal Aviation Regulations (14 CFR part 71) by establishing Class D airspace at Bay St. Louis, MS, (71 FR 9981). This action provides adequate Class D airspace for IFR operations at Stennis International Airport. Designations for Class D Airspace are published in paragraph 5000 of FAA Order 7400.9N, dated September 1, 2005, and effective September 16, 2005, which is incorporated by reference in 14 CFR 71.1. The Class D airspace designation listed in this document will be published subsequently in the Order.

Interested parties were invited to participate in this rulemaking proceeding by submitting written comments on the proposal to the FAA. Five commenters advised that Diamondhead Airport, MS, is contained within the proposed Class D airspace area. A 1-mile radius cutout around the Diamondhead Airport, MS, excludes the airport from the Class D airspace and provides egress from and ingress to the airport from the east.

The Rule

This amendment to part 71 of the Federal Aviation Regulations (14 CFR part 71) establishes Class D airspace at Bay St. Louis, MS.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D AND CLASS E AIRSPACE AREAS; AIRWAYS; ROUTES; AND REPORTING POINTS

1. The authority citation for 14 CFR part 71 continues to read as follows:

Authority: 49 U.S.C. 106(g); 40103, 40113, 40120; EO 10854, 24 FR 9565, 3 CFR, 1959-1963 Comp., p. 389; 14 CFR 11.69.

§ 71.1 [Amended]

2. The incorporation by reference in 14 CFR 71.1 of Federal Aviation Administration Order 7400.9N, Airspace Designations and Reporting Points, dated September 1, 2005, and effective September 16, 2005, is amended as follows:

Paragraph 5000 Class D Airspace

* * * * *

ASO MS D Bay St. Louis, MS [NEW]

Stennis International Airport, MS

(Lat. 30°22′04″ N, long. 89°27′17″ W)

Diamondhead Airport, MS

(Lat. 30°21′47″ N, long. 89°23′16″ W)

That airspace extending upward from the surface to and including 2,500 feet MSL within a 4.2-mile radius of the Stennis International Airport; excluding that airspace with a 1-mile radius of Diamondhead Airport. This Class D airspace area is effective during the specific days and times established in advance by a Notice to Airmen. The effective days and times will thereafter be continuously published in the Airport/Facility Directory.

* * * * *

Issued in College Park, Georgia, on March 31, 2006.
Mark D. Ward,
Acting Area Director, Air Traffic Division, Southern Region.

[FR Doc. 06-3622 Filed 4-14-06; 8:45 am]

BILLING CODE 4910-13-M